DEPARTMENT OF HEALTH AND HUMAN SERVICES

Centers for Disease Control and Prevention

[30Day-19-19MM]

Agency Forms Undergoing Paperwork Reduction Act Review

In accordance with the Paperwork Reduction Act of 1995, the Centers for Disease Control and Prevention (CDC) has submitted the information collection request titled Study on Disparities in Distress Screening among Lung and Ovarian Cancer to the Office of Management and Budget (OMB) for review and approval. CDC previously published a “Proposed Data Collection Submitted for Public Comment and Recommendations” notice on March 6, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Study on Disparities in Distress Screening among Lung and Ovarian Cancer—New—National Center for Chronic Disease Prevention and Health Promotion (NCCDPHP) Centers for Disease Control and Prevention (CDC).

Background and Brief Description

Within the cancer treatment community, interest in the psychosocial impacts of cancer diagnosis and treatment is increasing. These psychosocial impacts are wide ranging and include not only anxiety related to the illness and treatment side effects such as pain, fatigue and cognition, but also stress related to nonmedical issues such as family relationships, financial hardship, social stressors (e.g. transportation), and stigmatization. There is growing evidence that addressing the psychosocial stresses of cancer survivors increases both their longevity and quality of life.

The 2016 Institute of Medicine (currently, National Academies of Sciences, Engineering, and Medicine) ovarian cancer report, funded by CDC, calls for increased study of the psychosocial needs of ovarian cancer survivors, recognizing the high rates of depression, anxiety, and distress. Up to 60% of lung cancer survivors also experience high levels of distress. Both ovarian and lung cancer patients have relatively low five-year survival rates (45% and 17%, respectively). Therefore, CDC believes that it is imperative to develop a greater understanding about the types of psychosocial services they receive during their course of treatment and follow-up care.

CDC proposes a new information collection to examine the extent to which disparities exist in distress screening and follow-up among cancer treatment facilities and programs across the country. The study will include 50 healthcare facilities. From these facilities, we will request existing electronic health records (EHR) of 2,000 lung and ovarian cancer survivors. Data elements collected will include patient demographic information, cancer diagnosis and treatment, experience with distress screening and follow-up care, and medical service utilization. Patient names, addresses, birth dates and Social Security Numbers will not be collected.

Staff from twelve of the 50 participating healthcare facilities will be invited to participate in an interview and focus group to provide contextual understanding about facilitators and barriers to distress screening and follow-up processes. This is a one-time data collection.

Results of this study will provide CDC's National Comprehensive Cancer Control Program (NCCCP) with information to assist with the development of information, resources, technical assistance, and future evidence-based interventions to improve the quality of life of lung and ovarian cancer survivors. Summative findings will be used to evaluate the need to help with policy, systems, or environmental changes that may enhance the landscape of quality of life services for cancer survivors in communities at large. OMB approval is requested for one year. The total estimated annualized burden hours are 512.

Estimated Annualized Burden Hours
Type of respondents | Instrument | Number of respondents | Number of responses per respondent | Average burden per response (in hours)
Quantitative:
Healthcare Professionals (POC) | Survey | 50 | 1 | 20/60
IT Staff | EMR data | 50 | 1 | 7.5
Qualitative:
Healthcare Professionals | Key Informant Interview | 12 | 1 | 1
| Focus Groups | 72 | 1 | 1.5

Jeffrey M. Zirger,
Lead, Information Collection Review Office, Office of Scientific Integrity, Office of Science, Centers for Disease Control and Prevention.

[FR Doc. 2019-14298 Filed 7-3-19; 8:45 am]

BILLING CODE 4163-18-P